DEPARTMENT OF EDUCATION

34 CFR Parts 75, 76, and 79

[Docket ID ED-2023-OPEPD-0110]

RIN 1875-AA14

Education Department General Administrative Regulations and Related Regulatory Provisions; Correction

AGENCY: Office of Planning, Evaluation and Policy Development, Department of Education.

ACTION: Final regulations; correction.

SUMMARY: On August 29, 2024, the Department of Education (Department) published in the Federal Register final regulations amending the Education Department General Administrative Regulations and related regulatory provisions. This document corrects technical errors in the amendatory instructions and regulatory text. This document does not contain any substantive changes to the regulations.

DATES: Effective September 30, 2024.

FOR FURTHER INFORMATION CONTACT: Kelly Terpak, U.S. Department of Education, 400 Maryland Avenue SW, Room 4C212, Washington, DC 20202. Telephone: (202) 245-6776. Email: EDGAR@ed.gov.

If you are deaf, hard of hearing, or have a speech disability and wish to access telecommunications relay services, please dial 7-1-1.

SUPPLEMENTARY INFORMATION: On August 29, 2024, the Department published in the Federal Register final regulations amending the Education Department General Administrative Regulations and related regulatory provisions (89 FR 70300). Those final regulations contain technical errors, which we are correcting. This document does not contain any substantive changes to the regulations.

Specifically, we are correcting:

• The wording of the regulatory text being replaced in § 75.50;

• Section 75.210 by restoring a selection criterion factor from the current regulation which was inadvertently omitted from the revisions to that section;

• One paragraph designation in § 75.225;

• Punctuation in the section heading for § 75.591 to maintain the format of the current heading;

• The wording of the regulatory text being replaced in the amendatory instruction for § 76.100;

• The section number in the amendatory instruction for § 76.564;

• A reference to Catalog of Federal Domestic Assistance, or “CFDA number,” in § 76.711, and making a related conforming edit to replace that term with Assistance Listing Number, or “ALN”;

• The instruction for § 76.783, to remove only one instance of the word “or”; and

• A typo in the instruction for § 79.4.

Waiver of Proposed Rulemaking and Delayed Effective Date

In accordance with the Administrative Procedure Act (APA), 5 U.S.C. 553, the Department generally offers interested parties the opportunity to comment on proposed regulations. However, the APA provides that an agency is not required to conduct notice-and-comment rulemaking when the agency, for good cause, finds that notice and public comment thereon are impracticable, unnecessary, or contrary to the public interest (5 U.S.C. 553(b)(3)(B)). There is good cause to waive rulemaking here as unnecessary.

Rulemaking is “unnecessary” in those situations in which “the administrative rule is a routine determination, insignificant in nature and impact, and inconsequential to the industry and to the public.” Utility Solid Waste Activities Group v. EPA, 236 F.3d 749, 755 (D.C. Cir. 2001), quoting U.S. Department of Justice, Attorney General's Manual on the Administrative Procedure Act 31 (1947) and South Carolina v. Block, 558 F. Supp. 1004, 1016 (D.S.C. 1983). The regulatory changes in this document are necessary to correct technical errors and do not establish any new substantive rules and do not make substantive changes to these regulations. Therefore, the Department has determined that publication of a proposed rule is unnecessary under 5 U.S.C. 553(b)(3)(B).

The APA generally requires that regulations be published at least 30 days before their effective date, unless the agency has good cause to implement its regulations sooner (5 U.S.C. 553(d)(3)). As previously stated, because the regulatory changes correct errors, there is good cause to waive the delayed effective date in the APA and make the corrections effective September 30, 2024.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF, you must have Adobe Acrobat Reader, which is available free at the site.

You may also access documents of the Department published in the Federal Register by using the article search feature at www.federalregister.gov. Specifically, through the advanced search feature at this site, you can limit your search to documents published by the Department.

Corrections

In FR Doc. 2024-17239, published in the Federal Register on August 29, 2024 (89 FR 70300), we make the following technical corrections:

1. On page 70320, in the second column, correct instruction 4 for § 75.50 to read as follows:

§ 75.50 [Corrected]

4. Amend § 75.50 by removing the words “authorizing statute and implementing regulations” and adding in their place the words “applicable statutes and regulations”.

2. On page 70324, in the first column, correct instruction 28 for § 75.210 by adding paragraph (c)(2)(xxx) to read as follows:

§ 75.210 [Corrected]

* * * * *

(c) * * *

(2) * * *

(xxx) The extent to which the proposed project is supported by promising evidence.

* * * * *

§ 75.225 [Corrected]

3. On page 70327, in the second column, in instruction 36 for § 75.225, redesignate paragraph (e) as paragraph (d).

§ 75.591 [Corrected]

4. On page 70331, in the second column, in instruction 60 for § 75.591, correct the section heading from “Federal evaluation; cooperation by a grantee” to “Federal evaluation—cooperation by a grantee”.

5. On page 70335, at the end of the first column and beginning of the second column, correct instruction 101 for § 76.100 to read as follows:

§ 76.100 [Corrected]

101. Amend § 76.100 by removing the words “the authorizing statute and the implementing regulations” and adding in their place the words “applicable statutes and regulations”.

§ 76.564 [Corrected]

6. On page 70338, in the second column, correct instruction 127 from “Revise § 76.654 to read as follows:” to “Revise § 76.564 to read as follows:”.

7. On page 70339, in the second column, correct instruction 147 for § 76.711 by revising instruction b. and adding instruction c. to read as follows:

§ 76.711 [Corrected]

147. Amend § 76.711 by:

* * * * *

b. Removing the phrase “Catalog of Federal Domestic Assistance (CFDA)” and adding in its place the words “Assistance Listings and assigned an Assistance Listing Number (ALN)”.

c. Removing the text “CFDA number” and adding in its place the abbreviation “ALN”.

* * * * *

§ 76.783 [Corrected]

8. On page 70340, in the second column, correct instruction 154.a. for § 76.783 to read as follows:

154. Amend § 76.783 by:

a. In paragraph (a)(1), removing the word “or” at the end of the paragraph;

* * * * *

9. On page 70343, in the third column, correct instruction 170 for § 79.4 to read as follows:

§ 79.4 [Corrected]

170. Amend § 79.4 in paragraph (b)(3) by removing the word “official's” and adding in its place the word “officials' ”.

Roberto Rodriguez,
Assistant Secretary for Planning, Evaluation and Policy Development.

[FR Doc. 2024-22195 Filed 9-26-24; 8:45 am]

BILLING CODE 4000-01-P